DEPARTMENT OF LABOR

Bureau of Labor Statistics

Proposed Revision of Information Collection; Contingent Work Supplement to the Current Population Survey

AGENCY: Bureau of Labor Statistics, Department of Labor.

ACTION: Request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “Contingent Work Supplement (CWS) to the Current Population Survey (CPS).” A copy of the proposed information collection request can be obtained by contacting the individual listed below in the Addresses section of this notice.

DATES: Written comments must be submitted to the office listed in the Addresses section of this notice on or before April 13, 2026.

ADDRESSES: Send comments to Erin Good, BLS Clearance Officer, Division of Management Systems, Bureau of Labor Statistics, by email to BLS_PRA_Public@bls.gov.

FOR FURTHER INFORMATION CONTACT: Erin Good, BLS Clearance Officer, at 202-691-7628 (this is not a toll free number). (See Addresses section.)

SUPPLEMENTARY INFORMATION:

I. Background

The purpose of this request for review is for the Bureau of Labor Statistics (BLS) to obtain clearance for a revision to the Contingent Work Supplement (CWS) to the Current Population Survey (CPS), which was last conducted in May 2025. The CWS questions focus on people with contingent jobs—those that people do not expect to last or that are temporary—and workers in alternative employment arrangements, such as independent contractors, on-call workers, temporary help agency workers, and workers provided by contract firms. There are also questions to identify digital labor platform workers, those who obtain work or pick tasks by using a digital labor platform mobile application (app) or website to directly connect them with customers or clients and arrange payment for the tasks.

Because this supplement is part of the CPS, the same detailed demographic information collected in the CPS will be available on respondents to the supplement. Comparisons will be possible across characteristics such as sex, race and ethnicity, age, and educational attainment of the respondent.

The CWS will provide information on the number and characteristics of workers in contingent jobs and alternative employment arrangements and those using digital labor platforms. The CWS was fielded periodically 5 times from 1995 to 2005 and then in May 2017, July 2023, and May 2025. There is interest in more regular collection of these data to show how the number and characteristics of these workers are changing over time. July 2026 CWS data will allow researchers and policy makers to evaluate how the number and characteristics of these workers has evolved. Policy makers also can use these data to inform the design of regulations for different types of workers.

BLS is proposing changes to the digital labor platform work portion of the July 2026 supplement. Separate sections that asked about platform work on an employed person's main job (17 questions) and the second job of multiple jobholders (15 questions) will be streamlined into a single platform work section (24 questions, about half of which are new). The revised platform work section will include new items about work over the prior 4 weeks. The expanded time reference for this portion of the supplement, and inclusion of people not employed at the time of the survey, will provide more information about digital platform work that might be of short duration or intermittent. The new questions include how many days per week and hours per day were typically spent on work obtained through an app or website and what type of work was done.

II. Current Action

Office of Management and Budget clearance is being sought for the Contingent Work Supplement to the CPS.

A revision of the existing collection is needed to incorporate updates to the digital labor platform work portion of the July 2026 supplement and provide the Nation with timely information about contingent and alternative work arrangements.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Contingent Work Supplement (CWS) to the Current Population Survey (CPS).

OMB Number: 1220-0153.

Type of Review: Revision.

Affected Public: Households.

Annual Number of Respondents: 48,000.

Frequency: Once.

Total Annual Responses: 48,000.

Average Time per Response: 3 minutes.

Estimated Annual Total Burden Hours: 2,400 hours.

Comments submitted in response to this notice will be summarized and/or included in the request for Office of Management and Budget approval of the information collection request; they also will become a matter of public record.

Signed on February 6, 2026.
Eric Molina,
Chief, Division of Management Systems, Branch of Policy Analysis.

[FR Doc. 2026-02629 Filed 2-9-26; 8:45 am]

BILLING CODE 4510-24-P